SMALL BUSINESS ADMINISTRATION

[Declaration of Disaster #3293]

State of West Virginia

Kanawha County and the contiguous Counties of Boone, Clay, Fayette, Jackson, Lincoln, Nicholas, Putnam, Raleigh, and Roane in the State of West Virginia constitute a disaster area as a result of damages caused by severe storms and flooding that occurred on September 1 and 2, 2000. Applications for loans for physical damage as a result of this disaster may be filed until the close of business on November 13, 2000 and for economic injury until the close of business on June 11, 2001 at the address listed below or other locally announced locations:

U.S. Small Business Administration, Disaster Area 1 Office, 360 Rainbow Boulevard South, 3rd Floor, Niagara Falls, NY 14303.

The interest rates are:

| Percent
For Physical Damage:
HOMEOWNERS WITH CREDIT AVAILABLE ELSEWHERE | 7.375
HOMEOWNERS WITHOUT CREDIT AVAILABLE ELSEWHERE | 3.687
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The numbers assigned to this disaster are 329306 for physical damage and 9I7700 for economic injury.

(Catalog of Federal Domestic Assistance Program Nos. 59002 and 59008.)
Dated: September 11, 2000.
Aida Alvarez,
Administrator.

[FR Doc. 00-24024 Filed 9-18-00; 8:45 am]

BILLING CODE 8025-01-U